DEPARTMENT OF THE INTERIOR

Fish and Wildlife Service

Recovery Plan for Deinandra conjugens (Otay tarplant)

AGENCY: Fish and Wildlife Service, Interior.

ACTION: Notice of document availability.

SUMMARY: The U.S. Fish and Wildlife Service (we) announces the availability of the Recovery Plan for Deinandra [= Hemizonia] conjugens (Otay tarplant). This plant species is found in southwestern San Diego County, California, and northwestern Baja California, Mexico.

ADDRESSES: Printed copies of this recovery plan are available by request from the U.S. Fish and Wildlife Service, Carlsbad Fish and Wildlife Office, 6010 Hidden Valley Road, Carlsbad, California 92009 (telephone: 760-431-9440). An electronic copy of the recovery plan is available on the World Wide Web at: http://endangered.fws.gov/recovery/index.html#plans.

FOR FURTHER INFORMATION CONTACT: Field Supervisor, at the above Carlsbad address.

SUPPLEMENTARY INFORMATION:

Background

Recovery of endangered or threatened animals and plants is a primary goal of the Endangered Species Act (ESA) (16 U.S.C. 1531 et seq.) and our endangered species program. Recovery means improvement of the status of listed species to the point at which listing is no longer required under the criteria set out in section 4(a)(1) of the Act. Recovery plans describe actions considered necessary for the conservation of the species, establish criteria for downlisting or delisting listed species, and estimate time and cost for implementing the measures needed for recovery.

The ESA requires the development of a recovery plan for endangered or threatened species unless such a plan would not promote the conservation of the species. Section 4(f) of the ESA requires that public notice, and an opportunity for public review and comment, be provided during recovery plan development. The Draft Recovery Plan for Deinandra conjugens was available for public comment from December 18, 2003, to March 2, 2004 (68 FR 70526). Information presented during the public comment period has been considered in the preparation of this final recovery plan.

We listed Deinandra conjugens as a federally threatened species on October 13, 1998 (63 FR 54938); we designated critical habitat on December 10, 2002 (67 FR 76030). Deinandra conjugens is annual plant typically found on clay soils in grasslands, open coastal sage scrub, and maritime succulent scrub. It is restricted to southwestern San Diego County, California, and northwestern Baja California, Mexico; its status in Mexico is unclear.

Urban development and agricultural activities, invasion of nonnative species, and habitat fragmentation and degradation have resulted in the loss of suitable habitat across the Deinandra conjugens' range. The species annual habit and self-incompatible breeding system potentially create additional threats from population fluctuations, reduced populations of pollinators, and a decline in genetic variation. Maintenance of the genetic variability within the species, through cross-pollination, may be critical to long-term survival. The extensive fragmentation of remaining populations may exacerbate these threats by reducing connectivity between populations and potentially limiting suitable pollinators, and hence gene flow between populations. Deinandra conjugens is a species that receives benefit from multi-species preservation and management under the Multiple Species Conservation Program, a regional habitat conservation program in southwestern San Diego County, California.

The objective of this plan is to provide a framework for the recovery of Deinandra conjugens so that protection by the ESA is no longer necessary. Actions necessary to accomplish this objective include: (1) Stabilize and protect habitat supporting known populations; (2) assess the status of all known populations; (3) conduct surveys to search for new populations and implement actions to protect populations outside of established reserves when necessary; (4) adaptively manage and monitor conserved areas; (5) identify research needs and conduct studies on the biology and ecology of Deinandra conjugens; and (6) develop and implement a community outreach program.

Authority

The authority for this action is section 4(f) of the Endangered Species Act, 16 U.S.C. 1533(f).

Dated: December 3, 2004.
Steve Thompson,
Manager, California/Nevada Operations Office, U.S. Fish and Wildlife Service.

[FR Doc. 04-28380 Filed 12-27-04; 8:45 am]

BILLING CODE 4310-55-P